ENVIRONMENTAL PROTECTION AGENCY

40 CFR Part 52

[EPA-R09-OAR-2017-0411; FRL-9965-51-Region 9]

Approval and Promulgation of Implementation Plans; Enhanced Monitoring; California

AGENCY: Environmental Protection Agency (EPA).

ACTION: Proposed rule.

SUMMARY: The Environmental Protection Agency (EPA) is proposing to approve a State Implementation Plan (SIP) revision submitted by the State of California on November 10, 1993. This SIP revision concerns the establishment of a Photochemical Assessment Monitoring System (PAMS) network in six ozone nonattainment areas within California. The EPA is proposing this action under the Clean Air Act based on the conclusion that all applicable statutory and regulatory requirements related to PAMS SIP revisions have been met.

DATES: Any comments must arrive by September 1, 2017.

ADDRESSES: Submit your comments, identified by Docket ID No. EPA-R09-OAR-2017-0411 at http://www.regulations.gov, or via email to lo.doris@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Doris Lo, EPA Region IX, (415) 972-3959, lo.doris@epa.gov.

SUPPLEMENTARY INFORMATION: Throughout this document, “we,” “us,” and “our” refer to the EPA.

Table of Contents

I. Background Information

II. Analysis of State Submission

III. Proposed Action and Request for Public Comment

IV. Statutory and Executive Order Reviews

I. Background Information

The Clean Air Act (CAA or “Act”) requires the EPA to establish National Ambient Air Quality Standards (NAAQS or “standards”) for certain widespread pollutants, such as ozone, that cause or contribute to air pollution that is reasonably anticipated to endanger public health or welfare.¹ In 1979, we promulgated an ozone NAAQS of 0.12 parts per million (ppm), one-hour average (“1-hour ozone standard”).²

¹ See sections 108 and 109 of the Act.

² See 44 FR 8202, February 8, 1979.

The Act, as amended in 1990, required the EPA to designate as nonattainment any ozone areas that were still designated nonattainment under the 1977 Act Amendments, and any other areas violating the 1-hour ozone standard, generally based on air quality monitoring data from the 1987 through 1989 period.³ The 1990 CAA Amendments further classified these areas, based on the severity of their nonattainment problem, as Marginal, Moderate, Serious, Severe or Extreme.

³ See section 107(d)(4) of the Act. See also 56 FR 56694, November 6, 1991.

The control requirements and date by which attainment of the one-hour ozone standard was to be achieved varied with an area's classification. Marginal areas were subject to the fewest mandated control requirements and had the earliest attainment date while higher classified areas were subject to more stringent planning requirements and were provided more time to attain the standard.

In 1991, we published the initial ozone classifications for nonattainment areas within each state, and within California, we classified six ozone nonattainment areas as Serious, Severe, or Extreme: Los Angeles-South Coast Air Basin (“South Coast”), Sacramento Metro, San Diego County, San Joaquin Valley, Southeast Desert Modified AQMA (“Southeast Desert”) and Ventura County.⁴ Such areas were subject to many requirements, including those related to enhanced monitoring in CAA section 182(c)(1).

⁴ See 56 FR 56694, November 6, 1991.

Section 182(c)(1) of the CAA requires that the EPA promulgate rules for enhanced monitoring of ozone, oxides of nitrogen (NOX), and volatile organic compounds (VOC) no later than 18 months after the date of the enactment of the 1990 CAA Amendments. These rules are intended to provide a mechanism for obtaining more comprehensive and representative data on ozone air pollution in areas designated nonattainment and classified as Serious, Severe or Extreme.

The final PAMS rule was promulgated by the EPA on February 12, 1993 (58 FR 8452). Section 58.40(a) of the revised rule requires the State to submit a PAMS network description, including a schedule for implementation, to the Administrator within six months after promulgation or by August 12, 1993.⁵

⁵ Since 1993, EPA has significantly amended and re-organized the monitoring network requirements in 40 CFR part 58. For the purposes of this action, the citations to part 58 refer to the July 1, 1993 version of 40 CFR part 58, not the current version because the California PAMS network description submitted in 1993 was intended to address the regulatory requirements that applied at the time.

On August 12, 1993, the California Air Resources Board (CARB) submitted proposed PAMS network plans to the EPA that included a schedule for implementation for each of the six subject areas in California. This submittal was reviewed and approved in stages for the different areas.⁶ In each case, the EPA concluded that the submitted network plans satisfy the requirements of 40 CFR 58.40(a). Since network descriptions may change annually, they are not part of the SIP as recommended by the document, “Guideline for the Implementation of the Ambient Air Monitoring Regulations, 40 CFR part 58.” However, the network description is negotiated and approved during the annual review via the grant process under section 105 of the Act, as required by 40 CFR 58.20(d), 58.25, 58.36, and 58.46.

⁶ See, e.g., memorandum from William F. Hunt, Jr., Director, Emissions, Monitoring, and Analysis Division, EPA Office of Air Quality Planning and Standards (OAQPS) to David P. Howekamp, Director, Air and Toxics Division, EPA Region IX, dated September 22, 1995 (reference to approval in part of the PAMS Network Plan for the South Coast and Southeast Desert); memorandum from William F. Hunt, Jr., Director, Emissions, Monitoring, and Analysis Division, EPA OAQPS to David Howekamp, Director, Air and Toxics Division, EPA Region IX, dated August 15, 1995 (reference to approval in part of the PAMS Network Plan for Sacramento County); letter from David P. Howekamp, Air Division Director, EPA Region IX, to Richard J. Sommerville, Air Pollution Control Officer (APCO), San Diego County Air Pollution Control District (APCD), March 9, 1994 (approval in part of the PAMS Network Plan for San Diego County); memorandum from William F. Hunt, Jr., Director, Emissions, Monitoring, and Analysis Division, EPA OAQPS to David Howekamp, Director, Air and Toxics Division, EPA Region IX, dated August 16, 1995 (reference to approval in part of the PAMS Network Plan for San Joaquin Valley); and letter from David P. Howekamp, Air Division Director, EPA Region IX, to Richard H. Baldwin, APCO, Ventura County APCD, March 9, 1994 (approval in part of the PAMS Network Plan for Ventura County).

Section 182(c)(1) also requires that the SIP be revised to contain measures to improve the ambient monitoring of ozone, NOX, and VOC in ozone nonattainment areas classified as Serious, Severe or Extreme. The final PAMS rule requires that SIP revisions under section 182(c)(1) provide for the establishment and maintenance of a PAMS network.

On November 10, 1993, CARB submitted to the EPA a SIP revision for PAMS in California (“California PAMS SIP revision”). The California PAMS SIP revision consists of PAMS commitments from five California air districts with jurisdiction within the six relevant ozone nonattainment areas: the South Coast Air Quality Management District(for South Coast and Southeast Desert areas); Sacramento Metro AQMD (for the Sacramento Metro area); San Diego County Air Pollution Control District (for the San Diego County area); San Joaquin Valley Unified APCD (for the San Joaquin Valley area), and Ventura County APCD (for the Ventura County area), as well as CARB Executive Orders approving the commitments, and public process documentation. The California PAMS SIP revision is intended to meet the requirements of section 182(c)(1) of the Act and affect compliance with the PAMS regulations, codified at 40 CFR part 58, as promulgated on February 12, 1993.

II. Analysis of State Submission

The criteria used to review the SIP revision submittal are derived from the CAA, and include: The General Preamble; ⁷ the PAMS regulations, codified at 40 CFR part 58; “Guideline for the Implementation of the Ambient Air Monitoring Regulations: 40 CFR part 58—Guideline Series” (EPA-450/4-78-038, Office of Air Quality Planning and Standards, November 1979); and the September 2, 1993, memorandum from G.T. Helms titled, “Final Boilerplate Language for the PAMS SIP Submittal.”

⁷ EPA, General preamble for future proposed rulemakings, State Implementation Plans; General Preamble for the Implementation of Title I of the Clean Air Act Amendments of 1990, 57 FR 13498 (April 16, 1992) (“General Preamble”). The enhanced monitoring requirement in CAA section 182(c)(1) is addressed on page 13515 of the General Preamble.

The September 2, 1993, Helms boilerplate memorandum stipulates that the PAMS SIP, at a minimum, must: Provide for monitoring of criteria pollutants, such as ozone and nitrogen dioxide and non-criteria pollutants, such as nitrogen oxides, speciated VOCs, including carbonyls, as well as meteorological parameters; provide a copy of the approved (or proposed) PAMS network description, including the phase-in schedule, for public inspection during the public notice and/or comment period provided for in the SIP revision or, alternatively, provide information to the public upon request concerning the State's plans for implementing the rules; make reference to the fact that PAMS will become a part of the State or local air monitoring stations (SLAMS) network; and provide a statement that SLAMS will employ federal reference or equivalent methods (FRMs or FEMs) while most PAMS sampling will be conducted using methods that are not FRMs or FEMs but approved by the EPA.

The California PAMS SIP revision provides that each of the five relevant air districts will implement PAMS as required in 40 CFR part 58, as amended February 12, 1993. Each district will amend its SLAMS and its National Air Monitoring Stations monitoring systems to include the PAMS requirements. Each district will develop its PAMS network design and establish monitoring sites pursuant to 40 CFR part 58 in accordance with an approved network description and as negotiated with the EPA through the CAA section 105 grant process on an annual basis. Each district also provided the public with an opportunity to inspect the proposed network description during the public review process for the proposed SIP revision prior to forwarding the adopted version to CARB for approval and submittal to the EPA as a revision to the California SIP.

The five California air districts have implemented their PAMS networks as required in 40 CFR part 58. Each relevant air district also includes a provision to meet quality assurance requirements as contained in 40 CFR part 58, appendix A and a provision to assure that the PAMS monitors will meet monitoring methodology requirements contained in 40 CFR part 58, appendix C. Lastly, the air districts provided assurance that the PAMS network within their respective jurisdictions will be phased in over a period of not more than five years as required in 40 CFR 58.44.

As such, we conclude that the PAMS SIP revision submitted by CARB on November 10, 1993, meets the relevant statutory and regulatory requirements, and we propose to approve it as part of the California SIP.

III. Proposed Action and Request for Public Comment

Under CAA section 110(k)(3) and for the reasons discussed above, the EPA proposes to approve the California PAMS SIP revision submitted on November 10, 1993, for six ozone nonattainment areas in California. We will accept comments from the public on the proposed approval for the next 30 days.

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely approves a state plan as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the proposed action does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: July 14, 2017.
Deborah Jordan,
Acting Regional Administrator, Region IX.

[FR Doc. 2017-16276 Filed 8-1-17; 8:45 am]

BILLING CODE 6560-50-P